DEPARTMENT OF LABOR

Employment and Training Administration

[TA-W-53,949]

American Fast Print LTD, U.S. Finishing Division, Greenville, South Carolina; Notice of Termination of Investigation

Pursuant to section 221 of the Trade Act of 1974, as amended, an investigation was initiated on January 6, 2004 in response to a petition filed on behalf of workers at American Fast Print LTD, U.S. Finishing Division, Greenville, South Carolina.

The three petitioners have requested that the petition be withdrawn. Consequently, the investigation has been terminated.

Signed at Washington, DC this 30th day of January 2004.
Linda G. Poole,
Certifying Officer, Division of Trade Adjustment Assistance.

[FR Doc. 04-3316 Filed 2-13-04; 8:45 am]

BILLING CODE 4510-30-P